DEPARTMENT OF COMMERCE

International Trade Administration

[C-570-980]

Crystalline Silicon Photovoltaic Cells, Whether or Not Assembled Into Modules, From the People's Republic of China: Final Results of Countervailing Duty Administrative Review, and Partial Rescission of Countervailing Duty Administrative Review; 2014

AGENCY: Enforcement and Compliance, International Trade Administration, Department of Commerce.

SUMMARY: The Department of Commerce (the Department) has completed its administrative review of the countervailing duty order (CVD) on crystalline silicon photovoltaic cells, whether or not assembled into modules (solar cells), from the People's Republic of China (PRC) for the January 1, 2014, through December 31, 2014, period of review (POR). We have determined that the mandatory respondents Canadian Solar Manufacturing (Changshu) Inc. and its cross-owned affiliates (collectively, Canadian Solar) and Changzhou Trina Solar Energy Co., Ltd. and its cross-owned affiliates (collectively, Trina Solar), received countervailable subsidies during the POR. The final net subsidy rates are listed below in the section, “Final Results of Administrative Review.” We are also rescinding the review for 20 companies for which all review requests were timely withdrawn or for which we have concluded that there were no entries, exports, or sales of the subject merchandise during the POR.

DATES: Applicable July 17, 2017.

FOR FURTHER INFORMATION CONTACT: Gene H. Calvert, AD/CVD Operations, Office VII, Enforcement and Compliance, International Trade Administration, U.S. Department of Commerce, 1401 Constitution Avenue NW., Washington, DC 20230; telephone (202) 482-3586.

Background

The Department published the Preliminary Results of this administrative review in the Federal Register on January 9, 2017.¹ We invited interested parties to comment on the Preliminary Results. On May 11, 2017, we received timely case briefs from the following interested parties: SolarWorld Americas, Inc. (the petitioner); the Government of China (GOC); Canadian Solar; Trina Solar; Shanghai BYD Co., Ltd. and BYD (Shangluo) Industrial Co., Ltd. (collectively, Shanghai BYD); Systemes Versilis, Inc. (Systemes Versilis); and Toenergy Technology Hangzhou Co., Ltd.² On May 17, 2017, we received timely rebuttal comments from the petitioner; the GOC; Canadian Solar; Trina Solar; Shanghai BYD; and Systemes Versilis.³

¹ See Crystalline Silicon Photovoltaic Cells, Whether or Not Assembled Into Modules, from the People's Republic of China: Preliminary Results of Countervailing Duty Administrative Review and Preliminary Intent To Rescind, in Part; 2014, 82 FR 2317 (January 9, 2017) (Preliminary Results).

² See Letter to the Secretary from the petitioner, “Certain Crystalline Silicon Photovoltaic Products from the People's Republic of China: Case Brief of SolarWorld Americas, Inc.,” (May 11, 2017); Letter to the Secretary from the GOC, “GOC Administrative Case Brief: Third Administrative Review of the Countervailing Duty Order on Crystalline Silicon Photovoltaic Cells, Whether or Not Assembled Into Modules from the People's Republic of China (C-570-980),” (May 11, 2017); Letter to the Secretary from Canadian Solar, “Crystalline Silicon Photovoltaic Cells, Whether or Not Assembled into Modules from the People's Republic of China: Case Brief,” (May 11, 2017) ; Letter to the Secretary from Trina Solar, “Crystalline Silicon Photovoltaic Cells, Whether or Not Assembled Into Modules from the People's Republic of China—Case Brief,” (May 11, 2017); Letter to the Secretary from Shanghai BYD, “Crystalline Silicon Photovoltaic Cells, Whether or Not Assembled into Modules, from the People's Republic of China—2014 CVD Review: BYD's Case Brief,” (May 11, 2017); Letter to the Secretary from Systemes Versilis, “Crystalline Silicon Photovoltaic Cells, Whether or Not Assembled into Modules, from the People's Republic of China—2014 CVD Review: Systems Versilis's Case Brief,” (May 11, 2017); and Letter to the Secretary from Toenergy, “Crystalline Silicon Photovoltaic Cells, Whether or Not Assembled Into Modules, From the People's Republic of China (C-570-980); Preliminary Results of the 2014 Countervailing Duty Administrative Review; Case Brief of Toenergy Technology Hangzhou Co., Ltd. (May 11, 2017).

³ See Letter to the Secretary from the petitioner, “Crystalline Silicon Photovoltaic Cells, Whether Or Not Assembled Into Modules from the People's Republic of China: Rebuttal Brief of SolarWorld Americas, Inc.,” (May 17, 2017) ; Letter to the Secretary from the GOC, “GOC Rebuttal Brief: Third Administrative Review of the Countervailing Duty Order on Crystalline Silicon Photovoltaic Cells, Whether or not Assembled Into Modules from the People's Republic of China (C-570-980) (May 17, 2017); Letter to the Secretary from Canadian Solar, “Crystalline Silicon Photovoltaic Cells, Whether or Not Assembled into Modules from the People's Republic of China: Rebuttal Brief,” (May 17, 2017); Letter to the Secretary from Trina Solar, “Crystalline Silicon Photovoltaic Cells, Whether or Not Assembled Into Modules from the People's Republic of China—Rebuttal Brief,” (May 17, 2017); Letter to the Secretary from Shanghai BYD, “Crystalline Silicon Photovoltaic Cells, Whether or Not Assembled into Modules, from the People's Republic of China—2014 CVD Review: BYD's Rebuttal Brief,” (May 17, 2017); and Letter to the Secretary from Systemes Versilis, “Crystalline Silicon Photovoltaic Cells, Whether or Not Assembled into Modules, from the People's Republic of China—2014 CVD Review: Systemes Versilis's Rebuttal Brief,” (May 17, 2017).

On April 12, 2017, in accordance with section 751(a)(3)(A) of the Act, the Department extended the period for issuing the final results of this review by 45 days, to June 23, 2017.⁴ On June 7, 2017, the Department extended the period for issuing the final results by an additional 15 days, to July 8, 2017.⁵

⁴ See Department Memorandum, “Crystalline Silicon Photovoltaic Cells, Whether or Not Assembled Into Modules, from the People's Republic of China: Extension of Deadline for Final Results of Third Countervailing Duty Administrative Review,” (April 12, 2017).

⁵ See Department Memorandum, “Crystalline Silicon Photovoltaic Cells, Whether or Not Assembled Into Modules, from the People's Republic of China: Second Extension of Deadline for Final Results of Third Countervailing Duty Administrative Review,” (June 7, 2017); see also Notice of Clarification: Application of “Next Business Day” Rule for Administrative Determination Deadlines Pursuant to the Tariff Act of 1930, As Amended, 70 FR 24533 (May 10, 2005).

Scope of the Order

The merchandise covered by this order is crystalline silicon photovoltaic cells, and modules, laminates, and panels, consisting of crystalline silicon photovoltaic cells, whether or not partially or fully assembled into other products, including, but not limited to, modules, laminates, panels, and building integrated materials. The product is currently classified under the Harmonized Tariff Schedule of the United States (HTSUS) item numbers 8501.61.0000, 8507.20.80, 8541.40.6020, 8541.40.6030, and 8501.31.8000. These HTSUS subheadings are provided for convenience and customs purposes; the written description of the scope of this order is dispositive. A full description of the scope of the order is contained in the Issues and Decision Memorandum, which is hereby adopted by this notice.⁶

⁶ See Department Memorandum to James Maeder, Senior Director, Performing the Duties of Deputy Assistant Secretary for Antidumping and Countervailing Duty Operations, “Decision Memorandum for Final Results and Partial Rescission of Countervailing Duty Administrative Review: Crystalline Silicon Photovoltaic Cells, Whether or Not Assembled Into Modules, from the People's Republic of China; 2014,” dated concurrently with this notice (Issues and Decision Memorandum).

Corrections to the Preliminary Results

The Federal Register notice for the Preliminary Results incorrectly listed the case number for this review as “C-570-971,” instead of under the correct case number “C-570-980.” ⁷ Accordingly, we now correct the Preliminary Results of this administrative review to be referenced under case number “C-570-980.” In addition, the Preliminary Results inadvertently referenced a non-selected company under review as “Toenergy Technology,” rather than its legal name, “Toenergy Technology Hangzhou Co., Ltd.” ⁸ We hereby correct the Preliminary Results to reference “Toenergy Technology Hangzhou Co., Ltd,” as a non-selected company under review.

⁷ See Preliminary Results.

⁸ Id.

Analysis of Comments Received

All issues raised in interested parties' briefs are addressed in the Issues and Decision Memorandum accompanying this notice. A list of the issues raised by interested parties and to which we responded in the Issues and Decision Memorandum is provided in Appendix I to this notice. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be access directly at http://enforcement.trade.gov/frn/. The signed and electronic versions of the Issues and Decision Memorandum are identical in content.

Changes Since the Preliminary Results

Based on case briefs, rebuttal briefs, and all supporting documentation, we made changes from the Preliminary Results. The Department has modified its creditworthiness findings for both mandatory respondents to find that the respondents were creditworthy during certain years. Additionally, the Department has adjusted Canadian Solar's inland freight charges when constructing the benchmarks for its purchases regarding the provision of inputs for LTAR programs and its discount rates for the Preferential Policy Lending program. We also adjusted the discount rates for both respondents based on our final determination that both mandatory respondents were creditworthy in certain years.

Partial Rescission of Review

We are rescinding this administrative review for 20 companies named in the Initiation Notice.⁹ In the Preliminary Results, we made a preliminary determination to rescind the review of companies for which all review requests were timely withdrawn.¹⁰ We received no comments with regard to this preliminary determination, and are accordingly rescinding the review for these companies in accordance with 19 CFR 351.212(d)(1). With respect to JA Solar Technology Yangzhou Co., Ltd.; JingAo Solar Co., Ltd.; and Shanghai JA Solar Technology Co., Ltd. (collectively, the JA Solar Companies), the Preliminary Results stated that we preliminarily intended to rescind the review for these companies because they timely withdrew their request for review and no other party requested a review for these companies.¹¹ This was incorrect, as petitioners also requested a review of the JA Solar Companies.¹² However, we also noted that the JA Solar Companies reported that they made no exports or sales of subject merchandise to the United States during the POR.¹³ We received no comments regarding whether to rescind the review of the JA Solar Companies or on what basis the review should be rescinded. As a result, we are rescinding the review with respect to the JA Solar Companies pursuant to 19 CFR 351.213(d)(3).

⁹ See Initiation of Antidumping and Countervailing Duty Administrative Reviews, 81 FR 6832 (February 9, 2016) (Initiation Notice).

¹⁰ See Preliminary Results.

¹¹ Id.

¹² See Letter to the Secretary from the petitioner, “Crystalline Silicon Photovoltaic Cells, Whether or Not Assembled Into Modules, from the People's Republic of China: Request for Administrative Review,” (December 31, 2015).

¹³ See Department Memorandum, “Decision Memorandum for the Preliminary Results of the Administrative Review of the Countervailing Duty Order on Crystalline Silicon Photovoltaic Cells, Whether or Not Assembled Into Modules, from the People's Republic of China; 2014,” dated concurrently with and adopted by the Preliminary Results (PDM) at 2-3.

All companies for which we are rescinding this administrative review are listed in Appendix II to this notice. For these companies, countervailing duties shall be assessed at rates equal to the rates of the cash deposits for estimated countervailing duties required at the time of entry, or withdrawal from warehouse, for consumption, during the POR, in accordance with 19 CFR 351.212(c)(2).

Methodology

The Department conducted this review in accordance with section 751(a)(1)(A) of the Tariff Act of 1930, as amended (the Act). For each of the subsidy programs found to be countervailable, we find that there is a subsidy, i.e., a financial contribution from a government or public entity that gives rise to a benefit to the recipient, and that the subsidy is specific.¹⁴ For a full description of the methodology underlying all of the Department's conclusions, including any determination that relied upon the use of adverse facts available pursuant to sections 776(a) and (b) of the Act, see the Issues and Decision Memorandum.

¹⁴ See sections 771(5)(B) and (D) of the Act regarding financial contribution; section 771(5)(E) of the Act regarding benefit; and section 771(5A) of the Act regarding specificity.

Final Results of Administrative Review

In accordance with 19 CFR 351.221(b)(5), we calculated a countervailable subsidy rate for the two mandatory respondents, Canadian Solar and Trina Solar. For the non-selected companies subject to this review,¹⁵ we followed the Department's practice, which is to base the subsidy rates on an average of the subsidy rates calculated for those companies selected for individual review, excluding de minimis rates or rates based entirely on adverse facts available.¹⁶ In this case, for the non-selected companies, we have calculated a rate by weight-averaging the calculated subsidy rates of the two mandatory respondents using their publicly-ranged sales data for exports of subject merchandise to the United States during the POR. We find the countervailable subsidy rates for the producers/exporters under review to be as follows:

¹⁵ See Appendix III.

¹⁶ See, e.g., Certain Pasta from Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

¹⁷ See Preliminary Results at the section, “Preliminary Results of Review.” Cross-owned affiliates are: Canadian Solar Inc.; Canadian Solar Manufacturing (Luoyang) Inc.; CSI Cells Co., Ltd.; CSI Solar Power (China) Inc.; CSI Solartronics (Changshu) Co., Ltd.; CSI Solar Technologies Inc.; and CSI Solar Manufacture Inc.

¹⁸ Id. Cross-owned affiliates are: Trina Solar Limited; Trina Solar (Changzhou) Science & Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd.

Company | Subsidy rate (percent ad valorem)
Canadian Solar Manufacturing (Changshu) and its Cross-Owned Affiliates ¹⁷ | 18.30
Changzhou Trina Solar Energy Co., Ltd. and its Cross-Owned Affiliates ¹⁸ | 17.14
BYD (Shangluo) Industrial Co., Ltd | 17.53
Chint Solar (Zhejiang) Co., Ltd | 17.53
ET Solar Energy Limited | 17.53
ET Solar Industry Limited | 17.53
Hangzhou Sunny Energy Science and Technology Co., Ltd | 17.53
Jiawei Solarchina Co., Ltd | 17.53
Jiawei Solarchina (Shenzhen) Co., Ltd | 17.53
Lightway Green New Energy Co., Ltd | 17.53
Luoyang Suntech Power Co., Ltd | 17.53
Ningbo Qixin Solar Electrical Appliance Co., Ltd | 17.53
Shanghai BYD Co., Ltd | 17.53
Shenzhen Topray Solar Co. Ltd | 17.53
Systemes Versilis, Inc. | 17.53
Taizhou BD Trade Co., Ltd | 17.53
tenKsolar (Shanghai) Co., Ltd | 17.53
Toenergy Technology Hangzhou Co., Ltd | 17.53
Wuxi Suntech Power Co., Ltd | 17.53

Disclosure

We will disclose to the parties in this proceeding the calculations performed for these final results within five days of the date of publication of this notice in the Federal Register.¹⁹

¹⁹ See 19 CFR 351.224(b).

Assessment Rates

Consistent with 19 CFR 351.212(b)(2), we intend to issue assessment instructions to U.S. Customs and Border Protection (CBP) 15 days after the date of publication of these final results of review, to liquidate shipments of subject merchandise entered, or withdrawn from warehouse, for consumption, on or after January 1, 2014, through December 31, 2014, at the ad valorem rates listed above.

Cash Deposit Instructions

In accordance with section 751(a)(1) of the Act, we intend to instruct CBP to collect cash deposits of estimated countervailing duties in the amounts shown for each of the respective companies listed above. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: July 10, 2017.
Carole Showers,
Executive Director, Office of Policy, performing the duties of the Deputy Assistant Secretary for Enforcement and Compliance.

Appendix I

List of Topics Discussed in the Issues and Decision Memorandum

Summary

Background

List of Comments from Interested Parties

Scope of the Order

Correction to the Preliminary Results

Changes Since the Preliminary Results

Partial Rescission of Administrative Review

Non-Selected Companies Under Review

Subsidies Valuation Information

Allocation Period

Attribution of Subsidies

Denominators

Creditworthiness

Benchmarks and Discount Rates

Use of Facts Otherwise Available and Adverse Inferences

Programs Determined To Be Countervailable

Programs Determined To Be not Countervailable During the POR

Programs Determined Not To Be Used or Not To Confer Measurable Benefits

Analysis of Comments

Comment 1: Usage of Export Buyer's Credit Program

Comment 2: Selection of the Adverse Facts Available (AFA) Rate for Export Buyer's Credit Program

Comment 3: Whether the Aluminum Extrusions for Less Than Adequate Remuneration (LTAR) Program Is Specific

Comment 4: Aluminum Extrusions Benchmark

Comment 5: Solar Glass Benchmark

Comment 6: Polysilicon Benchmark

Comment 7: Ocean Freight Benchmark

Comment 8: Inland Freight Benchmarks

Comment 9: Inclusion of Value Added Tax (VAT) in LTAR Benchmarks

Comment 10: Electricity for LTAR

Comment 11: Creditworthiness

Comment 12: Whether the Department Should Adjust the Benefit Calculation for the Preferential Policy Lending Program

Comment 13: Canadian Solar's Benefit From the Golden Sun Demonstration Program

Comment 14: Whether the Export Credit Insurance Program is Countervailable

Comment 15: Clerical Errors in the Preliminary Results

Recommendation

Appendix—Non-Selected Companies Under Review

Appendix II

List of Companies for Which We are Rescinding This Administrative Review ²⁰

²⁰ See Issues and Decision Memorandum at the section, “Partial Rescission of Administrative Review.”

1. Baoding Jiasheng Photovoltaic Technology Co. Ltd.

2. Baoding Tianwei Yingli New Energy Resources Co., Ltd.

3. Beijing Tianneng Yingli New Energy Resources Co. Ltd.

4. ERA Solar Co. Limited

5. Hainan Yingli New Energy Resources Co., Ltd.

6. Hengshui Yingli New Energy Resources Co., Ltd.

7. JA Solar Technology Yangzhou Co., Ltd.

8. JingAo Solar Co., Ltd.

9. Jinko Solar Co., Ltd.

10. Jinko Solar Import and Export Co., Ltd.

11. JinkoSolar International Limited

12. JinkoSolar (U.S.) Inc.

13. Lixian Yingli New Energy Resources Co., Ltd.

14. Shanghai JA Solar Technology Co., Ltd.

15. Tianjin Yingli New Energy Resources Co., Ltd.

16. Yingli Energy (China) Co., Ltd.

17. Yingli Green Energy Holding Company Limited

18. Yingli Green Energy International Trading Company Limited

19. Zhejiang Jinko Solar Co., Ltd.

20. Zhejiang Sunflower Light Energy Science & Technology Liability Company

Appendix III

List of Non-Selected Companies Under Review

1. BYD (Shangluo) Industrial Co., Ltd.

2. Chint Solar (Zhejiang) Co., Ltd.

3. ET Solar Energy Limited

4. ET Solar Industry Limited

5. Hangzhou Sunny Energy Science and Technology Co., Ltd.

6. Jiawei Solarchina Co., Ltd.

7. Jiawei Solarchina (Shenzhen) Co., Ltd.

8. Lightway Green New Energy Co., Ltd.

9. Luoyang Suntech Power Co., Ltd.

10. Ningbo Qixin Solar Electrical Appliance Co., Ltd.

11. Shanghai BYD Co., Ltd.

12. Shenzhen Topray Solar Co. Ltd.

13. Systemes Versilis, Inc.

14. Taizhou BD Trade Co., Ltd.

15. tenKsolar (Shanghai) Co., Ltd.

16. Toenergy Technology Hangzhou Co., Ltd.

17. Wuxi Suntech Power Co., Ltd.

[FR Doc. 2017-14957 Filed 7-14-17; 8:45 am]

BILLING CODE 3510-DS-P